CONSUMER PRODUCT SAFETY COMMISSION

Sunshine Act Meetings

Time and Date: Wednesday, April 28, 2010, 9 a.m.-12 Noon.

Place: Hearing Room 420, Bethesda Towers, 4330 East West Highway, Bethesda, Maryland.

Status: Commission Meeting—Open to the Public.

Matters to be Considered: 1. Pending Decisional Matter: Testing and Labeling to Product Certification—Notice of Proposed Rulemaking (NPR) and Testing Component Parts—Notice of Proposed Rulemaking (NPR).

2. CPSA 15j Rule for Drawstrings—Notice of Proposed Rulemaking (NPR).

3. CPSA 15j Rule for Hairdryers—Notice of Proposed Rulemaking (NPR).

A live Web cast of the Meeting can be viewed at http://www.cpsc.gov/webcast/index.html.

For a recorded message containing the latest agenda information, call (301) 504-7948.

Contact Person for More Information: Todd A. Stevenson, Office of the Secretary, U.S. Consumer Product Safety Commission, 4330 East West Highway, Bethesda, MD 20814 (301) 504-7923.

Dated: April 20, 2010.
Todd A. Stevenson,
Secretary.

[FR Doc. 2010-9468 Filed 4-20-10; 4:15 pm]

BILLING CODE 6355-01-P